DEPARTMENT OF AGRICULTURE

Rural Utilities Service

Berkeley Electric Cooperative, Inc; Notice of Availability of an Environmental Assessment

AGENCY: Rural Utilities Service, USDA.

ACTION: Notice of aailability of an Environmental Assessment.

SUMMARY: Notice is hereby given that the Rural Utilities Service (RUS) is issuing an Environmental Assessment (EA) with respect to the potential environmental impacts related to the construction of a 115/24.9 kV electric distribution substation by Berkeley Electric Cooperative. RUS may provide financing assistance for the project.

FOR FUTHER INFORMATION CONTACT: Bob Quigel, RUS, Engineering and Environmental Staff, Stop 1571, 1400 Independence Avenue, SW, Washington, DC 20250-1571, telephone: (202) 720-0468. Bob's e-mail address is bquigel@rus.usda.gov. Information is also available from Tom Meyers, Vice President of Engineering, at Berkeley Electric Cooperative, P.O. Box 1234, Monks Corner, South Carolina, 29461-1234, telephone (843) 761-8200.

SUPPLEMENTARY INFORMATION: The project consists of the construction of a 115/24.9 kV electric distribution substation located in Dorchester County, South Carolina, on the southern side of Ridge Road approximately 1000 feet east of the intersection of Parkers Ferry Road and Ridge Road. The fenced area for the substation will be approximately 7.5 acres. The fence surrounding the substation will be 7 feet high and topped with 3 strands of barbed wire. A short gravel road will be constructed from Ridge Road to the substation site. Approximately 500 feet of overhead 115 kV transmission line will connect the substation to an existing transmission line south of Parkers Ferry Road. Three underground distribution feeder lines will connect the substation to Berkeley Electric Cooperative's electric distribution system.

Berkeley Electric Cooperative submitted to RUS an environmental report which describes the project further and considers its potential environmental impacts. RUS has conducted an independent evaluation of the environmental report and believes that it accurately assesses the impacts of the proposed project. No adverse impacts are expected with the construction of the project. RUS has accepted the document as its Environmental Assessment and is making it available for public review.

The EA can be reviewed at Berkeley Electric Cooperative's Headquarters Office at 414 North Highway 52, Moncks Corner, South Carolina 29461 and their Johns Island District Office located at 3351 Maybank Highway, Johns Island, South Carolina 29455.

Questions and comments should be sent to RUS at the address provided. RUS should receive comments on the EA in writing within 30 days of the publication date of this notice to ensure that the comments are taken into consideration prior to RUS making its environmental determination.

Any final action by RUS related to the proposed project will be subject to, and contingent upon, compliance with all relevant Federal environmental laws and regulations and completion of environmental review procedures as prescribed by the Council on Environmental Quality Regulations and RUS Environmental Policies and Procedures.

Dated: May 15, 2000.
Glendon D. Deal,
Acting Director, Engineering and Environmental Staff.

[FR Doc. 00-12653 Filed 5-18-00; 8:45 am]

BILLING CODE 3410-15-U